DEPARTMENT OF TRANSPORTATION

Notice of Final Federal Agency Actions on Proposed Highway Projects in Texas

AGENCY: Texas Department of Transportation (TxDOT), Federal Highway Administration (FHWA), U.S. Department of Transportation.

ACTION: Notice of Limitation on Claims for Judicial Review of Actions by TxDOT and Federal Agencies.

SUMMARY: This notice announces actions taken by TxDOT and Federal agencies that are final. The environmental review, consultation, and other actions required by applicable Federal environmental laws for these projects are being, or have been, carried-out by TxDOT pursuant to an assignment agreement executed by FHWA and TxDOT. The actions relate to various proposed highway projects in the State of Texas. These actions grant licenses, permits, and approvals for the projects.

DATES: By this notice, TxDOT is advising the public of final agency actions subject to 23 U.S.C. 139(l)(1). A claim seeking judicial review of TxDOT and Federal agency actions on the highway projects will be barred unless the claim is filed on or before the deadline. For the projects listed below, the deadline is January 7, 2021. If the Federal law that authorizes judicial review of a claim provides a time period of less than 150 days for filing such a claim, then that shorter time period still applies.

FOR FURTHER INFORMATION CONTACT: Carlos Swonke, Environmental Affairs Division, Texas Department of Transportation, 125 East 11th Street, Austin, Texas 78701; telephone: (512) 416-2734; email: carlos.swonke@txdot.gov. TxDOT's normal business hours are 8:00 a.m.-5:00 p.m. (central time), Monday through Friday.

SUPPLEMENTARY INFORMATION: The environmental review, consultation, and other actions required by applicable Federal environmental laws for these projects are being, or have been, carried-out by TxDOT pursuant to 23 U.S.C. 327 and a Memorandum of Understanding dated December 9, 2019, and executed by FHWA and TxDOT.

Notice is hereby given that TxDOT and Federal agencies have taken final agency actions by issuing licenses, permits, and approvals for the highway projects in the State of Texas that are listed below.

The actions by TxDOT and Federal agencies and the laws under which such actions were taken are described in the Categorical Exclusion (CE), Environmental Assessment (EA), or Environmental Impact Statement (EIS) issued in connection with the projects and in other key project documents. The CE, EA, or EIS and other key documents for the listed projects are available by contacting TxDOT at the address provided above.

This notice applies to all TxDOT and Federal agency decisions as of the issuance date of this notice and all laws under which such actions were taken, including but not limited to:

1. General: National Environmental Policy Act (NEPA) [42 U.S.C. 4321-4351]; Federal-Aid Highway Act [23 U.S.C. 109].

2. Air: Clean Air Act, 42 U.S.C. 7401-7671(q).

3. Land: Section 4(f) of the Department of Transportation Act of 1966 [49 U.S.C. 303]; Landscaping and Scenic Enhancement (Wildflowers), 23 U.S.C. 319.

4. Wildlife: Endangered Species Act [16 U.S.C. 1531-1544 and Section 1536], Marine Mammal Protection Act [16 U.S.C. 1361], Fish and Wildlife Coordination Act [16 U.S.C. 661-667(d)], Migratory Bird Treaty Act [16 U.S.C. 703-712].

5. Historic and Cultural Resources: Section 106 of the National Historic Preservation Act of 1966, as amended [54 U.S.C. 300101 et seq.]; Archeological Resources Protection Act of 1977 [16 U.S.C. 470(aa)-11]; Archeological and Historic Preservation Act [54 U.S.C. 312501 et seq.]; Native American Grave Protection and Repatriation Act (NAGPRA) [25 U.S.C. 3001-3013].

6. Social and Economic: Civil Rights Act of 1964 [42 U.S.C. 2000(d)-2000(d)(1)]; American Indian Religious Freedom Act [42 U.S.C. 1996]; Farmland Protection Policy Act (FPPA) [7 U.S.C. 4201-4209].

7. Wetlands and Water Resources: Clean Water Act, 33 U.S.C. 1251-1377 (Section 404, Section 401, Section 319); Land and Water Conservation Fund (LWCF), 16 U.S.C. 4601-4604; Safe Drinking Water Act (SDWA), 42 U.S.C. 300(f)-300(j)(6); Rivers and Harbors Act of 1899, 33 U.S.C. 401-406; Wild and Scenic Rivers Act, 16 U.S.C. 1271-1287; Emergency Wetlands Resources Act, 16 U.S.C. 3921, 3931; TEA-21 Wetlands Mitigation, 23 U.S.C. 103(b)(6)(m), 133(b)(11); Flood Disaster Protection Act, 42 U.S.C. 4001-4128.

8. Executive Orders: E.O. 11990 Protection of Wetlands; E.O. 11988 Floodplain Management; E.O. 12898, Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species. (Catalog of Federal Domestic Assistance Program Number 20.205, Highway Planning and Construction.)

The projects subject to this notice are:

1. SH 6 from SH 16 North to the East city limit of De Leon, Comanche County, Texas. The project proposes to expand the roadway from two to four lanes and include a center turn lane. The reconstruction of the roadway includes adding pavement width, illumination, traffic signals, sidewalks, curb and gutter, and storm drains throughout the entire approximate 2 mile limits. The purpose is to enhance safety and improve mobility by allowing for safer turning movements into numerous driveways along this facility. The actions by TxDOT and Federal agencies and the laws under which such actions were taken are described in the Categorical Exclusion approved on October 25, 2019. The Categorical Exclusion Determination and other documents in the TxDOT project file are available by contacting TxDOT at the address provided above or the TxDOT Brownwood District Office at 2495 HWY 183 North, Brownwood, Texas 76802; telephone (325) 643-0413.

2. IH 35 from Shiloh Drive to 0.25 Miles N of US 59/IH 69 W in Webb County, Texas. The proposed project would be constructed in two phases. The first phase would fill in the current railroad underpass and construct a railroad overpass allowing for six main lanes of I-35 traffic to pass over the Union Pacific Railroad (UPRR). This project would be approximately 1.0-mile long. The second phase would extend the frontage roads by constructing two lane frontage road bridges over the UPRR for both the north bound and south bound frontage roads. These new bridges would tie into the frontage roads/turnarounds that were constructed under the first phase. The actions by TxDOT and Federal agencies and the laws under which such actions were taken are described in the Categorical Exclusion Determination issued on October 28, 2019 and other documents in the TxDOT project file. The Categorical Exclusion Determination and other documents in the TxDOT project file are available by contacting TxDOT at the address provided above or the TxDOT Laredo District Office at 1817 Bob Bullock Loop, Laredo, TX 78043; telephone (956) 712-7416.

3. William J. Bryan Parkway (FM 158) Improvement Project from BS 6-R (Texas Ave.) to SH 6, Brazos County, Texas. The proposed project would install shared use paths and sidewalks, raised medians, and improve intersections. The purpose of the proposed project is to enhance safety and mobility along the Parkway. The actions by TxDOT and Federal agencies and the laws under which such actions were taken are described in the Categorical Exclusion Determination issued on February 26, 2019, and other documents in the TxDOT project file. The Categorical Exclusion Determination and other documents in the TxDOT project file are available by contacting TxDOT at the address provided above or the TxDOT Bryan District Office at 2591 North Earl Rudder Freeway, Bryan, Texas 77803-5190; telephone (979) 778-9764.

4. County Road (CR) 59 from CR 48 to Kirby Drive in Brazoria County, Texas. The project will widen CR 59 from two-lanes to four lanes divided by a raised median. The project also includes drainage features and a shared use path. The actions by TxDOT and Federal agencies and the laws under which such actions were taken are described in the Categorical Exclusion Determination approved on December 11, 2019 and other documents in the TxDOT project file. The Categorical Exclusion Determination and other documents in the TxDOT project file are available by contacting TxDOT at the address provided above or the TxDOT Houston District Office located at 7600 Washington Avenue, Houston, Texas 77007; telephone (713) 802-5076.

5. New SH 205 (John King Boulevard) from the junction of SH 205/John King (South Goliad Street) to the junction of SH 205/John King (North Goliad Street) in Rockwall County, Texas. John King Boulevard currently serves as a bypass for SH 205 around the east side of the City of Rockwall's downtown area. The proposed project would widen existing John King Boulevard to an ultimate six-lane, divided, urban highway that would be re-designated as SH 205. New connections that would tie John King Boulevard directly into SH 205 are proposed at the northern and southern project termini. In addition, the improvements include a proposed underpass of the Dallas Garland & Northeastern Railroad. The purpose of the proposed project is to improve traffic mobility and reduce congestion. The actions by TxDOT and Federal agencies and the laws under which such actions were taken are described in the Categorical Exclusion Determination issued on January 13, 2020, and other documents in the TxDOT project file. The Categorical Exclusion Determination and other documents in the TxDOT project file are available by contacting TxDOT at the address provided above or the TxDOT Dallas District Office at 4777 E. Highway 80, Mesquite, TX 75150; telephone (214) 320-4480.

6. County Road (CR) 58 from Savannah Development to CR 48 in Brazoria County, Texas. The project will widen CR 58 from two lanes to four lanes divided by a raised median. The project also includes drainage features such as curb-and-gutter and a redesigned open drainage system with detention basin. The actions by TxDOT and Federal agencies and the laws under which such actions were taken are described in the Categorical Exclusion Determination approved on January 16, 2020 and other documents in the TxDOT project file. The Categorical Exclusion Determination and other documents in the TxDOT project file are available by contacting TxDOT at the address provided above or the TxDOT Houston District Office located at 7600 Washington Avenue, Houston, Texas 77007; telephone (713) 802-5076.

7. US 380 from Airport Drive to CR 458 in Collin County, Texas. The proposed project would widen the current 4-lane divided rural and urban sections to a 6-lane divided urban thoroughfare with two 12-foot wide lanes and one 14-foot wide outside lane in each direction. The project would include a 15-foot raised median, curb and gutter, and 6.5-foot sidewalks. The length of the proposed project is approximately 7.5 miles. The purpose of the proposed project is to improve safety and mobility in the area and alleviate traffic congestion. The actions by TxDOT and Federal agencies and the laws under which such actions were taken are described in the Categorical Exclusion Determination issued on January 29, 2020, and other documents in the TxDOT project file. The Categorical Exclusion Determination and other documents in the TxDOT project file are available by contacting TxDOT at the address provided above or the TxDOT Dallas District Office at 4777 E. Highway 80, Mesquite, TX 75150; telephone (214) 320-4480.

8. FM 802 from FM 1847 to Old Port Isabel Road, Cameron County, Texas. The purpose of the proposed project is to improve mobility, to accommodate current and future traffic volumes by reconstructing and widening the freeway from four to six lanes, and reconstructing and widening bike lanes and sidewalks. The proposed project length is approximately 1.85 miles. The actions by TxDOT and Federal agencies and the laws under which such actions were taken are described in the Categorical Exclusion Determination approved on January 29, 2020 and other documents in the TxDOT project file. The Categorical Exclusion Determination and other documents in the TxDOT project file are available by contacting TxDOT at the address provided above or the TxDOT Pharr District Office at 600 W. Expressway 83, Pharr, TX 78577; telephone (956) 702-6100.

9. FM 526 from Nola Court to IH 10; IH 10 WB frontage road from FM 526 to Normandy Street; and Normandy Street from IH 10 to Greens Bayou Street in Harris County, Texas. The project will construct bicycle and pedestrian improvements within the project area, including sidewalks and a shared use path. The project will also relocate existing storm sewers and widen existing shoulders. The actions by TxDOT and Federal agencies and the laws under which such actions were taken are described in the Categorical Exclusion Determination approved on February 5, 2020 and other documents in the TxDOT project file. The Categorical Exclusion Determination and other documents in the TxDOT project file are available by contacting TxDOT at the address provided above or the TxDOT Houston District Office located at 7600 Washington Avenue, Houston, Texas 77007; telephone (713) 802-5076.

10. SH 6 at FM 2 Intersection Improvement from 0.51 miles north of FM 2 and 0.11 miles west of SH 6 to 0.53 miles south of FM 2 and 0.11 miles east of SH 6, Grimes County, Texas. The proposed project would convert the at-grade intersection to a grade-separated intersection. This would create a typical main-lane section on SH 6 with 12 ft. travel lanes bounded by 10 ft. inside and outside shoulders; the ramps would have two 12 ft. lanes, one for dedicated left turns and the other for through traffic. The length of this project is approximately 1.4 miles. The purpose of the proposed project is to improve safety at the intersection of SH 6 with FM 2 in Grimes County. The actions by TxDOT and Federal agencies and the laws under which such actions were taken are described in the Categorical Exclusion Determination issued on September 30, 2019, and other documents in the TxDOT project file. The Categorical Exclusion Determination and other documents in the TxDOT project file are available by contacting TxDOT at the address provided above or the TxDOT Bryan District Office at 2591 North Earl Rudder Freeway, Bryan, Texas 77803-5190; telephone (979) 778-9764.

11. US 281 from 0.273 mile south of SH 186 to 0.023 mile north of FM 490, Hidalgo County, Texas. The purpose of the proposed project is to bring US 281 to current interstate highway standards between SH 186 and FM 490 to accommodate current and future traffic volumes by reconstructing, straightening, and widening US 281 with inside and outside shoulders, installation of a center concrete barrier, and constructing frontage roads to control access. The proposed project length is approximately 7.04 miles. The actions by TxDOT and Federal agencies and the laws under which such actions were taken are described in the Final Environmental Assessment approved on December 9, 2019, the Finding of No Significant Impact (FONSI) approved on December 12, 2019 and other documents in the TxDOT project file. The final environmental assessment, FONSI, and other documents in the TxDOT project file are available by contacting TxDOT at the address provided above or the TxDOT Pharr District Office at 600 W. Expressway 83, Pharr, TX 78577; telephone (956) 702-6100.

12. FM 676 and Mile 5 from SH 107 to FM 2220, Hidalgo County, Texas. The purpose of the proposed project is to improve mobility on FM 676 and Mile 5 between SH 107 and FM 2220, to accommodate current and future traffic volumes by reconstructing and widening the facility from two to four lanes with continuous center turn lane, and constructing 10-foot shoulders and sidewalks.

The proposed project length is approximately 4.0 miles. The actions by TxDOT and Federal agencies and the laws under which such actions were taken are described in the Final Environmental Assessment approved on February 5, 2020, the Finding of No Significant Impact (FONSI) approved on February 7, 2020 and other documents in the TxDOT project file. The final environmental assessment, FONSI, and other documents in the TxDOT project file are available by contacting TxDOT at the address provided above or the TxDOT Pharr District Office at 600 W Expressway 83, Pharr, TX 78577; telephone (956) 702-6100.

13. State Highway (SH) 105 from 10th Street in Conroe to Business 105 in Montgomery, San Jacinto, and Liberty Counties, Texas. The proposed project would widen SH 105 to the north and south to a four-lane facility with a continuous two-way turn lane of varying width. Sidewalk and bicycle accommodations along the north and south sides of SH 105 would be provided for the entire length of the facility. The proposed project includes a curb and gutter system along approximately 75 percent of the facility with open ditches along the remaining easternmost portion. The length of the project, including transitions, is approximately 20 miles. The purpose of the project is to improve safety, operational efficiency, and travel times; to accommodate growth along SH 105 within the project limits, and reduce the number of traffic accidents and fatalities. The actions by TxDOT and Federal agencies and the laws under which such actions were taken are described in the Final Environmental Assessment (EA) approved on February 19, 2020, the Finding of No Significant Impact (FONSI) issued on February 20, 2020 and other documents in the TxDOT project file. The EA, FONSI, and other documents in the TxDOT project file are available by contacting TxDOT at the address provided above or the TxDOT Houston District Office located at 7600 Washington Avenue, Houston, Texas 77007; telephone (713) 802-5076.

14. FM 1378 at FM 3286 Intersection Improvement in Collin County, Texas. The proposed project would improve the existing intersection at FM 1378 and FM 3286. The purpose of the proposed project is to provide congestion relief, improve traffic flow, and improve safety. The actions by TxDOT and Federal agencies and the laws under which such actions were taken are described in, the Categorical Exclusion Determination issued on February 27, 2020, and other documents in the TxDOT project file. The Categorical Exclusion Determination and other documents in the TxDOT project file are available by contacting TxDOT at the address provided above or the TxDOT Dallas District Office at 4777 E. Highway 80, Mesquite, TX 75150; telephone (214) 320-4480.

15. FM 518 from SH 288 to SH 35 in Brazoria County, Texas. The proposed project would reconstruct and widen the existing roadway from two lanes in each direction to three lanes in each direction. The typical section would include two 12-foot-wide travel lanes and one 15-foot-wide outside travel lane (in each direction), a typical 18-foot raised median, and 5-foot-wide sidewalks on both sides of the roadway. The actions by TxDOT and Federal agencies and the laws under which such actions were taken are described in the Final Environmental Assessment (EA) approved on February 28, 2020 with the Finding of No Significant Impact (FONSI) issued on March 03, 2020, and other documents in the TxDOT project file. The EA, FONSI and other documents in the TxDOT project file are available by contacting TxDOT at the address provided above or the TxDOT Houston District Office 7600 Washington Avenue, Houston Texas 77007; telephone (713) 802-5076. The EA and FONSI can also be viewed and downloaded from the following website: https://www.txdot.gov/inside-txdot/projects/studies/houston/fm518-sh288-to-sh35.html.

16. I-10 from SH 46 to FM 3351 in Bexar and Kendall Counties, Texas. The project adds one general-purpose lane and one High Occupancy Vehicle (HOV) lane in each direction of I-10 from FM 3351 (Ralph Fair Rd) to SH 46. The project is approximately 10.07 miles in length. The actions by TxDOT and Federal agencies and the laws under which such actions were taken are described in the Categorical Exclusion Determination issued on February 27, 2020 and other documents in the TxDOT project file. The Categorical Exclusion Determination and other documents in the TxDOT project file are available by contacting TxDOT at the address provided above or the TxDOT San Antonio District Office at 4615 NW Loop 410, San Antonio, TX 78229; telephone (210) 615-5839.

17. SH 42 from IH 20 to US 80, in Gregg County, Texas. The proposed project would construct a four-lane highway with two 12-foot travel lanes in each direction, a center left-turn lane, shoulders, and sidewalks in portions of the project. The proposed project length is approximately 5.9 miles in length. The actions by TxDOT and Federal agencies and the laws under which such actions were taken are described in the Final Environmental Assessment approved on March 12, 2020, the Finding of No Significant Impact approved on March 12, 2020, and other documents in the TxDOT project file. The Final Environmental Assessment and other documents in the TxDOT project file are available by contacting TxDOT at the address provided above or the TxDOT Tyler District Office at 2709 W Front St., Tyler, TX 75702; telephone (903) 510-9100.

18. IH 20 Roscoe Interchange Improvement, from East of CR 608 to West of Loop 170, in Nolan County, Texas. The project is located at the interchange of IH 20 and US 84 between the towns of Roscoe and Sweetwater. The proposed project would flatten the sharp curve at the interchange, and construct and reconstruct direct connectors and associated ramps. The existing two-way frontage roads would be reconstructed but would remain two-way. The project is approximately one mile in length and would address operational and safety concerns at the interchange. The actions by TxDOT and Federal agencies and the laws under which such actions were taken are described in the approved Categorical Exclusion Determination issued on April 1, 2020, and other documents in the TxDOT project file. The Categorical Exclusion Determination and other documents in the TxDOT project file are available by contacting TxDOT at the address provided above or the TxDOT Abilene District Office at 4250 North Clack, Abilene, TX. 79601; (325) 676-6817.

19. IH 10 from 0.54 miles east of FM 3247 to the Sabine River Bridge in Orange County, Texas. The proposed project would be reconstructed from four, 12-foot wide travel lanes (two in each direction) with variable width inside and outside shoulders to six 12-foot wide travel lanes with 10-foot wide inside shoulders and 10-foot wide outside shoulders. A concrete median barrier would separate the eastbound/westbound travel lanes. The project also includes widening the existing I-10 Adam's Bayou bridges to provide the additional 12-foot wide travel lane in each direction. The length of the proposed project is 4.84 miles with all work being completed in existing right of way. The purpose of the proposed project is to improve the safety and ensure mobility of the traveling public by widening the interstate highway and replacing the structurally deficient Sabine River Relief bridge. The actions by TxDOT and Federal agencies and the laws under which such actions were taken are described in the Categorical Exclusion Determination issued on September 6, 2019, and other documents in the TxDOT project file. The Categorical Exclusion Determination and other documents in the TxDOT project file are available by contacting TxDOT at the address provided above or the TxDOT Beaumont District Office at 8350 Eastex Freeway, Beaumont, Texas 77708; telephone (409) 898-5745.

20. IH 20 at SH 31 Interchange from 0.7 miles west of US 259 to 1.3 miles east of SH 31, in Gregg County, Texas. The proposed project would improve safety by removing the existing left exits and to address conflict points along SH 31 by reconstructing the IH 20 and SH 31 interchange. The proposed project length is approximately 1.5 miles in length. The actions by TxDOT and Federal agencies and the laws under which such actions were taken are described in the Categorical Exclusion Determination approved on April 3, 2020 and other documents in the TxDOT project file. The Categorical Exclusion Determination and other documents in the TxDOT project file are available by contacting TxDOT at the address provided above or the TxDOT Tyler District Office at 2709 W Front St., Tyler, TX 75702; telephone (903) 510-9100.

21. El Dora Road from FM 3362 (Jackson Road) to Veterans Boulevard (I Road), in Hidalgo County, Texas. The proposed project would widen the roadway from two to four lanes, with continuous left turn lane, adding right turn lanes, and including sidewalks. The proposed project length is approximately 2.3 miles. The actions by TxDOT and Federal agencies and the laws under which such actions were taken are described in the Categorical Exclusion Determination approved on April 10, 2020 and other documents in the TxDOT project file. The Categorical Exclusion Determination and other documents in the TxDOT project file are available by contacting TxDOT at the address provided above or the TxDOT Pharr District Office at 600 W Expressway 83, Pharr, TX 78577; telephone (956) 702-6100.

22. Watson Road from FM 2790/Somerset Road to 0.62 mile east of Somerset Road in Bexar County, Texas. The proposed project would expand the existing two-lane roadway to four lanes, provide a shared use path for pedestrians and bicycles, make storm-water drainage improvements, and construct a roundabout at the intersection of Verano Parkway and Watson Road. The project is approximately 0.62 miles in length. The purpose of the proposed project is to improve mobility and safety in the project area. The actions by TxDOT and Federal agencies and the laws under which such actions were taken are described in the Categorical Exclusion Determination issued on April 15, 2020, and other documents in the TxDOT project file. The Categorical Exclusion Determination and other documents in the TxDOT project file are available by contacting TxDOT at the address provided above or the TxDOT San Antonio District Office at 4615 NW Loop 410, San Antonio, TX 78229; telephone (210) 615-5839.

23. Galm Road Phase III From FM 471 to Government Canyon State Natural Area in Bexar County, Texas. The proposed project would consist of the reconstruction and widening of Galm Road from a two- lane section to a four-lane curbed urban arterial section with continuous sidewalks in each direction. The project is approximately 1.6 miles in length. The purpose of the proposed project is to improve mobility and safety in the project area. The actions by TxDOT and Federal agencies and the laws under which such actions were taken are described in, the Categorical Exclusion Determination issued on April 21, 2020, and other documents in the TxDOT project file. The Categorical Exclusion Determination and other documents in the TxDOT project file are available by contacting TxDOT at the address provided above or the TxDOT San Antonio District Office at 4615 NW Loop 410, San Antonio, TX 78229; telephone (210) 615-5839.

24. FM 2642 from FM 35 to SH 66 in Hunt County, Texas. The proposed project would convert FM 2642 to a four-lane urban divided roadway with curb/gutter and sidewalks. The proposed project length is approximately 2.37 miles in length. The purpose of the proposed project is to improve safety and mobility. The actions by TxDOT and Federal agencies and the laws under which such actions were taken are described in the Categorical Exclusion Determination approved on June 12, 2020 and other documents in the TxDOT project file. The Categorical Exclusion Determination and other documents in the TxDOT project file are available by contacting TxDOT at the address provided above or the TxDOT Paris District Office at 1365 N Main St., Paris, TX 75460; telephone (903) 737-9213.

25. FM 664 From IH 35 East to IH 45 in Ellis County, Texas. The proposed project would widen and reconstruct FM 664 within the proposed limits from a two/four-lane undivided rural roadway to a six-lane rural, curb and gutter facility with a raised median. A 2.5-mile bypass south of the City of Ferris would be constructed on new location to connect to a new interchange at IH 45. Major interchanges are proposed at IH 35 and IH 45. The length of the proposed project is approximately 9.96 miles. The purpose of the proposed project is to alleviate traffic congestion, accommodate future traffic, and improve mobility and safety. The actions by TxDOT and Federal agencies and the laws under which such actions were taken are described in the Final Environmental Assessment (EA) approved on January 23, 2020, Finding of No Significant Impact (FONSI) issued on March 25, 2020 and other documents in the TxDOT project file. The EA and other documents are available by contacting TxDOT at the address provided above or the TxDOT Dallas District Office at 4777 E Highway 80, Mesquite, TX 75150; telephone: (214) 320-4480.

26. IH 20 from Lawson Road to East of CR 138 (Wilson Road) in Dallas and Kaufman Counties, Texas. The proposed project would include constructing continuous one-way frontage road lanes in each direction, reconfiguring the ramps from a “diamond” configuration to an “X” configuration at each interchange, and adding auxiliary lanes on the mainlanes. The length of the proposed project is approximately 20.39 miles. The purpose of the proposed project is to address local policies, improve mobility, accommodate future traffic demand, enhance access, and improve safety. The actions by TxDOT and Federal agencies and the laws under which such actions were taken are described in the Final Environmental Assessment (EA) approved on April 10, 2020, Finding of No Significant Impact (FONSI) issued on April 10, 2020 and other documents in the TxDOT project file. The EA and other documents are available by contacting TxDOT at the address provided above or the TxDOT Dallas District Office at 4777 E Highway 80, Mesquite, TX 75150; telephone: (214) 320-4480.

27. US 80 from IH 30 to FM 460 in Dallas and Kaufman Counties, Texas. The proposed project would consist of reconstruction and widening to four mainlanes in each direction and reconstruction of the frontage roads, ramps, and bridge structures within the US 80 project limits. The length of the proposed project is approximately 11 miles. The purpose of the proposed project is to meet current roadway design standards, reduce congestion, improve mobility, and meet anticipated traffic demand with the project limits. The actions by TxDOT and Federal agencies and the laws under which such actions were taken are described in the Final Environmental Assessment (EA) approved on April 13, 2020, Finding of No Significant Impact (FONSI) issued on April 13, 2020 and other documents in the TxDOT project file. The EA and other documents are available by contacting TxDOT at the address provided above or the TxDOT Dallas District Office at 4777 E Highway 80, Mesquite, TX 75150; telephone: (214) 320-4480.

28. IH 35W from Dale Earnhardt Way to IH 35E/IH 35W Interchange in Denton County, Texas. The proposed project would construct continuous one-way, two lane urban northbound and southbound frontage roads along IH 35W, entrance and exit ramp reversals, flipping three interchanges so that IH 35W mainlanes cross over these streets; constructing a new interchange for future Denton Creek Road and expanding the Cleveland Gibbs Road, FM 407, Robson Ranch Road/Crawford Road, and proposed Loop 288/Vintage Road interchanges. The length of the proposed project is approximately 12.3 miles. The purpose of the proposed project is to improve safety and provide access to adjacent lands. The actions by TxDOT and Federal agencies and the laws under which such actions were taken are described in the Final Environmental Assessment (EA) approved on June 30, 2020, Finding of No Significant Impact (FONSI) issued on June 30, 2020 and other documents in the TxDOT project file. The EA and other documents are available by contacting TxDOT at the address provided above or the TxDOT Dallas District Office at 4777 E Highway 80, Mesquite, TX 75150; telephone: (214) 320-4480.

29. Nolana Loop from FM 1426 to FM 88, in Hidalgo County, Texas. The proposed project would widen, reconstruct, and extend the existing roadway. The proposed project length is approximately 9.8 miles. The purpose of the project is to improve mobility and connectivity. The actions by TxDOT and Federal agencies and the laws under which such actions were taken are described in the Final Environmental Assessment (EA) approved on May 1, 2020, Finding of No Significant Impact (FONSI) issued on July 20, 2020 and other documents in the TxDOT project file. The final environmental assessment, FONSI, and other documents in the TxDOT project file are available by contacting TxDOT at the address provided above or the TxDOT Pharr District Office at 600 W Expressway 83, Pharr, TX 78577; telephone (956) 702-6100.

Authority: 23 U.S.C. 139(l)(1).

Issued on: July 29, 2020.
Michael T. Leary,
Director, Planning and Program Development, Federal Highway Administration.

[FR Doc. 2020-16935 Filed 8-7-20; 8:45 am]

BILLING CODE 4910-22-P